DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than January 23, 2012.

Interested persons are invited to submit written comments regarding the subject matter of the investigations to the Director, Office of Trade Adjustment Assistance, at the address shown below, not later than January 23, 2012.

The petitions filed in this case are available for inspection at the Office of the Director, Office of Trade Adjustment Assistance, Employment and Training Administration, U.S. Department of Labor, Room N-5428, 200 Constitution Avenue NW., Washington, DC 20210.

Signed at Washington, DC, this 5th day of January 2012.
Michael Jaffe,
Michael Jaffe, Certifying Officer, Office of Trade Adjustment Assistance.

APPENDIX
[74 TAA petitions instituted between 12/5/11 and 12/30/11]
TA-W | Subject firm (petitioners) | Location | Date of institution | Date of petition
81133 | Talecris Biotherapeutics Inc. (Workers) | Durham, NC | 12/05/11 | 11/28/11
81134 | Bosley Medical (State/One-Stop) | Beverly Hills, CA | 12/05/11 | 12/02/11
81135 | Peninsula Daily News (Workers) | Port Angeles, WA | 12/05/11 | 11/29/11
81136 | Michelin North America, Inc. (Union) | Opelika, AL | 12/05/11 | 12/02/11
81137 | Wellpoint (State/One-Stop) | Andover, MA | 12/05/11 | 12/02/11
81138 | Keystone Automotive Operations, Inc. (Company) | Exeter, PA | 12/06/11 | 12/05/11
81139 | McClatchy Newspapers, Inc. DBA The Sacramento Bee (State) | Sacramento, CA | 12/06/11 | 12/02/11
81140 | Bureau Veritas Consumer Products Services (Workers) | Buffalo, NY | 12/07/11 | 11/27/11
81141 | Sewteam, Inc. (Company) | Corsicana, TX | 12/07/11 | 11/28/11
81142 | Jeunique International, Inc. (Company) | Santa Fe Springs, CA | 12/08/11 | 12/01/11
81143 | Armstrong Hardwood Flooring Company (Union) | Beverly, WV | 12/08/11 | 12/07/11
81144 | Regal Beloit—Liberty, SC Facility (Company) | Liberty, SC | 12/08/11 | 12/08/11
81145 | Sunoco Inc. Marcus Hook Refinery (Union) | Marcus Hook, PA | 12/08/11 | 12/07/11
81146 | LA Darling, Piggott Plant (Worker) | Piggott, AR | 12/08/11 | 12/07/11
81147 | Schneider Electric North America (Company) | Lexington, KY | 12/08/11 | 11/30/11
81148 | Wells Fargo (Company) | San Francisco, CA | 12/08/11 | 12/06/11
81149 | CQMS Razer (State/One-Stop) | Mansfield, LA | 12/08/11 | 12/06/11
81150 | Novozymes, Inc. (State/One-Stop) | Davis, CA | 12/08/11 | 12/05/11
81151 | Ahlstrom Glass Nonwovens LLC (Company) | Bishopville, SC | 12/09/11 | 12/08/11
81152 | Bristol Compressors International, Inc. (Company) | Bristol, VA | 12/09/11 | 12/08/11
81153 | Schneider Electric USA, Inc., a subsidiary of Schneider Electric Industries (State/One-Stop) | North Andover, MA | 12/09/11 | 12/08/11
81154 | Automotive Components Holdings (Union) | Bellevue, OH | 12/12/11 | 12/02/11
81155 | The Newark Group (Union) | York, PA | 12/12/11 | 12/11/11
81156 | Schott/Gemetron (Workers) | Vincennes, IN | 12/12/11 | 12/07/11
81157 | AAA Northern California, Nevada & Utah Insurance Exchange (State/One-Stop) | Fairfield, CA | 12/12/11 | 12/08/11
81158 | Hartford Financial Services Group, Inc. (Company) | Hartford, CT | 12/12/11 | 12/07/11
81159 | Transcom (State/One-Stop) | Lafayette, LA | 12/13/11 | 12/12/11
81160 | Kardex Production USA, Inc. (Company) | Lewistown, PA | 12/13/11 | 12/12/11
81161 | EMLINQ LLC (Company) | Simi Valley, CA | 12/13/11 | 12/12/11
81162 | Kennametal Greenfield Tap Plant (Union) | Greenfield, MA | 12/13/11 | 12/09/11
81163 | Smith Jones, Inc. (Company) | Stanberry, MO | 12/14/11 | 12/08/11
81164 | BAE Systems Controls, Inc. (Company) | Irving, TX | 12/14/11 | 12/12/11
81165A | Cengage Learning (Company) | Belmont, CA | 12/14/11 | 12/14/11
81165 | Cengage Learning (Company) | Mason, OH | 12/14/11 | 12/14/11
81166 | AVX Corporation (Union) | Conway, SC | 12/14/11 | 12/06/11
81167 | American Lighting Fixture Corp g. (Company) | Taunton, MA | 12/14/11 | 12/12/11
81168 | Lightspeed Technologies (Company) | Tualatin, OR | 12/14/11 | 12/13/11
81169 | Ikano Communications, Inc. DBA DSL Extreme (Company) | Chatsworth, CA | 12/15/11 | 12/14/11
81170 | Thomson Reuters (Workers) | Boston, MA | 12/15/11 | 12/08/11
81171 | The Seydel Companies (Company) | Pendergrass, GA | 12/15/11 | 12/13/11
81172 | Salem Harbor Station (State/One-Stop) | Salem, MA | 12/16/11 | 12/15/11
81173 | Reichhold (State/One-Stop) | Azusa, CA | 12/16/11 | 12/15/11
81174 | Charles Navasky & Co.,INC.—Don Mart Clothes, Inc.—Rocket Apparel, Inc.—Wal (Workers) | Philipsburg, PA | 12/16/11 | 12/15/11
81175 | Albany International (Company) | Menasha, WI | 12/19/11 | 12/16/11
81176 | Bombardier Transportation (Workers) | Pittsburgh, PA | 12/19/11 | 12/16/11
81177 | Heartland Bakery (State/One-Stop) | Du Quoin, IL | 12/20/11 | 12/19/11
81178 | Sunpower Corporation, incl. Richmond, CA Site; (Workers) | San Jose, CA | 12/20/11 | 12/12/11
81179 | Technicolor, Inc. (Union) | Glendale, CA | 12/21/11 | 12/15/11
81180 | Sagoma Technologies (State/One-Stop) | Biddeford, ME | 12/21/11 | 12/14/11
81181 | Bosch Security Systems, Inc. (State/One-Stop) | Morrilton, AR | 12/21/11 | 12/20/11
81182 | GFF Holding Company (Company) | Soperton, GA | 12/21/11 | 12/13/11
81183 | Avalon Laboratories, LLC (State) | Rancho Dominguez, CA | 12/21/11 | 12/12/11
81184 | C & M Wood Industries, Inc. (Workers) | Hesperia, CA | 12/22/11 | 12/21/11
81185 | CBean Transport (State/One-Stop) | Fort Smith, AR | 12/22/11 | 12/21/11
81186 | Liberty Denim, LLC. (Company) | Liberty, SC | 12/22/11 | 12/21/11
81187 | American Express, Billing and Payment Services (BPS) Division (Workers) | Weston, FL | 12/22/11 | 12/21/11
81188 | Shreveport Ramp Services, LLC (Company) | Shreveport, LA | 12/22/11 | 12/16/11
81189 | Tecumseh Products Co. (Workers) | Ann Arbor, MI | 12/22/11 | 12/19/11
81190 | Graphic Packaging International (Workers) | Lawrenceburg, TN | 12/22/11 | 12/10/11
81191 | Bristol, Inc. dba Emerson Process Management—Remote Automation Solutions (Company) | Watertown, CT | 12/22/11 | 12/21/11
81192 | Ferre Hickory, LLC (Company) | Hickory, NC | 12/22/11 | 12/21/11
81193 | Segue Manufacturing Services, LLC (State/One-Stop) | Lowell, MA | 12/23/11 | 12/23/11
81194 | Security Metal Products (Company) | Clinton, OK | 12/23/11 | 12/22/11
81195 | Boston Scientific (State/One-Stop) | Doral, FL | 12/23/11 | 12/22/11
81196 | Microfibres, Inc. (Company) | Pawtucket, RI | 12/27/11 | 12/27/11
81197 | Hanes Dye & Finishing Co.—Butner Plant (Company) | Butner, NC | 12/27/11 | 12/24/11
81198 | Andersen Corporation (State) | Bayport, MN | 12/28/11 | 12/27/11
81199 | Wellpoint/Anthem BCBS of Virginia (Workers) | Roanoke, VA | 12/28/11 | 12/27/11
81200 | Wausau Paper (Company) | Brokaw, WI | 12/28/11 | 12/20/11
81201 | EuroLeather Inc. (Workers) | Newton, NC | 12/30/11 | 12/28/11
81202 | TE Connectivity Medical Division (State/One-Stop) | Wilsonville, OR | 12/30/11 | 12/29/11
81203 | American Institute of Physics (Company) | College Park, MD | 12/30/11 | 12/21/11
81204 | Cooper Tire (Union) | Findlay, OH | 12/30/11 | 12/20/11
81205 | Lakeshore Visiting Physicians (Workers) | Edmore, MI | 12/30/11 | 12/30/11

[FR Doc. 2012-437 Filed 1-11-12; 8:45 am]

BILLING CODE 4510-FN-P